OFFICE OF GOVERNMENT ETHICS

Agency Information Collection Activities; Information Collection Renewal; Comment Request for OGE Form 450 Executive Branch Confidential Financial Disclosure Report

AGENCY: Office of Government Ethics (OGE).

ACTION: Notice and request for comments.

SUMMARY: After publication of this second round notice, the Office of Government Ethics (OGE) plans to request that the Office of Management and Budget (OMB) renew its approval under the Paperwork Reduction Act for an existing information collection, entitled the OGE Form 450 Executive Branch Confidential Financial Disclosure Report.

Comments: Written comments and recommendations for the proposed information collection should be sent within 30 days of publication of this notice to www.reginfo.gov/public/do/PRAMain. Find this particular information collection by selecting “Currently under 30-day Review—Open for Public Comments” or by using the search function.

FOR FURTHER INFORMATION CONTACT: Grant Anderson at the U.S. Office of Government Ethics; telephone: 202-482-9318; TTY: 800-877-8339; Email: Grant.Anderson@oge.gov.

SUPPLEMENTARY INFORMATION: Title: Executive Branch Confidential Financial Disclosure Report.

Agency Form Number: OGE Form 450.

Abstract: The OGE Form 450 collects information from covered department and agency employees as required under OGE's executive branch wide regulatory provisions in subpart I of 5 CFR part 2634. The basis for the OGE reporting regulation is section 201(d) of Executive Order 12674 of April 12, 1989 (as modified by Executive Order 12731 of October 17, 1990) and section 107(a) of the Ethics in Government Act, 5 U.S.C. app. sec. 107(a). OGE maintains the form in three formats on its website: A PDF version, a 508 compliant PDF version, and an Excel spreadsheet version. OGE seeks renewal of the OGE Form 450 without modification.

A Federal Register Notice with a 60-day comment period soliciting comments on this information collection was published on June 2, 2021 (86 FR 29584). OGE received five responses to that notice, one of which did not directly address the information collection.

The other four comments suggest requiring additional information, apparently for the benefit of the government employees tasked with reviewing the information. These suggestions would add additional reporting burden to filers and could have privacy implications. One of the suggestions would also require a regulatory change. Accordingly, OGE declined to adopt these suggestions in seeking Paperwork Reduction Act renewal for the OGE Form 450.

OMB Control Number: 3209-0006.

Type of Information Collection: Extension of a currently approved collection.

Type of Review Request: Regular.

Affected public: Prospective Government employees, including special Government employees, whose positions are designated for confidential disclosure filing and whose agencies require that they file new entrant confidential disclosure reports prior to assuming Government responsibilities.

Estimated Annual Number of Respondents: 30,449.

Estimated Time per Response: 3 hours.

Estimated Total Annual Burden: 91,347 hours.

Request for Comments: OGE is publishing this second round notice of its intent to request paperwork clearance renewal for the OGE Form 450. Public comment is invited specifically on the need for and practical utility of this information collection, the accuracy of OGE's burden estimate, the enhancement of quality, utility and clarity of the information collected, and the minimization of burden (including the use of information technology). The comments will become a matter of public record.

Approved: August 10, 2021.
Emory Rounds,
Director, U.S. Office of Government Ethics.

[FR Doc. 2021-17331 Filed 8-12-21; 8:45 am]

BILLING CODE 6345-03-P